DEPARTMENT OF EDUCATION

Notice of Proposed Information Collection Request

AGENCY: Department of Education.

ACTION: Correction notice.

SUMMARY: On August 18, 2009, the Department of Education published a comment period notice in the Federal Register (Page 41690, Column 3) for the information collection, “Beginning Teacher Longitudinal Study (BTLS) 2009-2012”. This notice is being corrected to state that interested persons are invited to submit comments on or before September 18, 2009. The IC Clearance Official, Regulatory Information Management Services, Office of Management, hereby issues a correction notice as required by the Paperwork Reduction Act of 1995.

Dated: September 10, 2009.
Angela C. Arrington,
IC Clearance Official, Regulatory Information Management Services, Office of Management.

[FR Doc. E9-22249 Filed 9-15-09; 8:45 am]

BILLING CODE P